FEDERAL RESERVE SYSTEM

Formations of, Acquisitions by, and Mergers of Savings and Loan Holding Companies; Correction

This notice corrects a notice (FR Doc. 2015-14407) published on page 33520 of the issue for Friday, June 12, 2015.

Under the Federal Reserve Bank of Cleveland heading, the entry for CF Mutual Holding Company and CF Bancorp, Inc., both in Cincinnati, Ohio, is revised to read as follows:

1. CF Mutual Holding Company and Cincinnati Bancorp, Inc., both in Cincinnati, Ohio; to become savings and loan holding companies by acquiring Cincinnati Federal Savings Loan Association, Cincinnati, Ohio.

Comments on this application must be received by July 9, 2015.

Board of Governors of the Federal Reserve System, June 16, 2015.
Michael J. Lewandowski,
Associate Secretary of the Board.

[FR Doc. 2015-15080 Filed 6-18-15; 8:45 am]

BILLING CODE 6210-01-P